DEPARTMENT OF THE INTERIOR

Bureau of Ocean Energy Management

[Docket No. BOEM-2012-0003]

Potential Commercial Leasing for Wind Power on the Outer Continental Shelf (OCS) Offshore Maine; Request for Interest

AGENCY: Bureau of Ocean Energy Management (BOEM), Interior.

ACTION: Public Notice of an Unsolicited Request for a Commercial OCS Wind Lease, Request for Interest, and Request for Public Comment

SUMMARY: The purpose of this public notice is to: (1) Describe the proposal submitted to BOEM by Statoil North America (Statoil NA) to acquire an OCS wind lease; (2) solicit public input regarding the proposal, its potential environmental consequences, and the use of the area in which the proposed project would be located; and (3) solicit submissions of indications of competitive interest for a commercial lease for wind energy development on the OCS off the coast of Maine for the area identified in this notice.

On October 12, 2011, BOEM received an unsolicited request from Statoil NA for a commercial wind lease on the OCS offshore Maine. Statoil NA's proposed project, “Hywind Maine,” would consist of four 3-megawatt (MW) wind turbine generators (WTG) configured for a total of 12-MW in water depths greater than 100 meters and be located approximately 12 nautical miles (nmi) off the coast of Maine. The objective of the proposed Hywind Maine Project is to demonstrate the commercial potential of the existing floating offshore Hywind technology, while responding to a corresponding Request for Proposals (RFP) issued by the Maine Public Utilities Commission.

This request for interest is published pursuant to subsection 8(p)(3) of the OCS Lands Act, as amended by section 388 of the Energy Policy Act of 2005 (EPAct) (43 U.S.C. 1337(p)(3)), and the implementing regulations at 30 CFR part 585.231(b). Subsection 8(p)(3) of the OCS Lands Act requires that OCS renewable energy leases, easements, and rights-of-way (ROWs) be issued “on a competitive basis unless the Secretary determines after public notice of a proposed lease, easement, or right-of-way that there is no competitive interest.” This request for interest provides such public notice for the proposed lease area requested by Statoil NA and invites the submission of indications of competitive interest. BOEM will consider the responses to this public notice to determine whether competitive interest exists for the area requested by Statoil NA, as required by 43 U.S.C. 1337(p)(3). Parties wishing to obtain a lease for the area requested by Statoil NA should submit detailed and specific information as described in the section entitled “Required Indication of Interest Information.”

This announcement also requests that interested and affected parties comment and provide information about site conditions and multiple uses within the area identified in this notice that would be relevant to the proposed project or its impacts. BOEM separately published a Notice of Intent (NOI) to prepare an environmental impact statement (EIS) concurrently with this request for interest. The NOI starts the scoping process for the EIS under 40 CFR 1501.7, and solicits information regarding important environmental issues, alternatives, and mitigation that should be considered in the EIS. A detailed description of the proposed lease area can be found in the section of this notice entitled “Description of the Area.”

DATES: If you are submitting an indication of interest in acquiring a lease for the area proposed by Statoil NA, your submission must be sent by mail, postmarked no later than October 9, 2012 for your submission to be considered. If you are providing comments or other submissions of information, you may send them by mail, postmarked by this same date, or you may submit them through the Federal Rulemaking Portal at http://www.regulations.gov, also by this same date.

SUBMISSION PROCEDURES: If you are submitting an indication of competitive interest for a lease or comments, please submit them by mail to the following address: Bureau of Ocean Energy Management, Office of Renewable Energy Programs, 381 Elden Street, HM 1328, Herndon, Virginia 20170. Submissions must be postmarked by October 9, 2012 to be considered by BOEM for the purposes of determining competitive interest. In addition to a paper copy of your submission, include an electronic copy on a compact disc (CD). BOEM will list the parties that submit indications of competitive interest on the BOEM Web site after the 60-day comment period has closed.

If you wish to protect the confidentiality of your submissions or comments, clearly mark the relevant sections and request that BOEM treat them as confidential. Please label privileged or confidential information “Contains Confidential Information” and consider submitting such information as a separate attachment. Treatment of confidential information is addressed in the section of this notice entitled, “Privileged or Confidential Information.” BOEM will post all comments on regulations.gov unless labeled as confidential. Information that is not labeled as privileged or confidential will be regarded by BOEM as suitable for public release.

If you are submitting comments and other information concerning the proposed lease area, you may use either of the following two methods:

1. Federal eRulemaking Portal: http://www.regulations.gov. In the entry entitled “Enter Keyword or ID,” enter BOEM-2012-0003, and then click “search.” Follow the instructions to submit public comments and view supporting and related materials available for this notice.

2. Alternatively, comments may be submitted by mail to the following address: Bureau of Ocean Energy Management, Office of Renewable Energy Programs, 381 Elden Street, HM 1328, Herndon, Virginia 20170.

FOR FURTHER INFORMATION CONTACT: Ms. Aditi Mirani, Renewable Energy Program Specialist, BOEM, Office of Renewable Energy Programs, 381 Elden Street, HM 1328, Herndon, Virginia 20170, (703) 787-1320.

SUPPLEMENTARY INFORMATION:

Purpose of the Request for Interest

Responses to this public notice will allow BOEM to determine, pursuant to 30 CFR 585.231, whether or not there is competitive interest in acquiring an OCS commercial wind lease in the area requested by Statoil NA. In addition, this notice provides an opportunity for interested stakeholders to comment on the proposed lease area and the proposed Hywind Maine project and any potential impacts the project may have.

If, in response to this notice, BOEM receives one or more indications of competitive interest for offshore wind energy development from qualified entities that wish to compete for the proposed lease area, it may decide to move forward with the lease issuance process using competitive procedures pursuant to 30 CFR part 585. However, if BOEM receives no competing indications of interest, BOEM may decide to move forward with the lease issuance process using the non-competitive procedures contained in 30 CFR part 585.

Should BOEM decide to proceed with issuing a lease in the proposed lease area, whether competitively or non-competitively, it may provide the public with additional opportunities to provide input pursuant to 30 CFR Part 585 and applicable laws, such as the National Environmental Policy Act (NEPA). The BOEM competitive and noncompetitive leasing processes are outlined in 30 CFR 585, subpart B.

Determination of Competitive Interest and Leasing Process

After the publication of this announcement, BOEM will evaluate indications of competitive interest for the area requested by Statoil NA for acquiring a commercial lease on the OCS. At the conclusion of the comment period for this public notice, BOEM will review the submissions received, undertake a completeness review for those submissions and qualifications review of the nominating entities, and make a determination as to whether competitive interest exists.

If BOEM determines that there is no competitive interest in the proposed lease area, it will publish in the Federal Register a notice that there is no competitive interest. At that point BOEM may decide to proceed with the noncompetitive lease issuance process pursuant to 30 CFR 585.231, and Statoil NA would be required to submit any required plan(s). Whether following competitive or non-competitive procedures, BOEM will consult with the intergovernmental Task Force and will comply with all applicable requirements before making a decision on whether or not to issue a lease and approve, disapprove, or approve with modifications any associated plan(s). BOEM would coordinate and consult, as appropriate, with relevant Federal agencies, affected tribes, and affected state and local governments, in issuing a lease and developing lease terms and conditions. Information on the environmental review process can be found at: http://www.boem.gov/Renewable-Energy-Program/State-Activities/Maine.aspx. See link entitled “Environmental Review Process.”

Description of the Proposed Lease Area

The proposed lease area consists of four partial OCS blocks. Following are the OCS lease blocks in Statoil NA's lease application: Official Protraction Diagram—NK 19-02 Bath; blocks 6461, 6462, 6511 and 6512. The table below describes the OCS lease sub-blocks included within the area of interest.

List of OCS Blocks Included in the Statoil NA Lease Application
Protraction name | Protraction No. | Block No. | Sub block
Bath | NK 19-02 | 6461 | I, J, K, L, M, N, O, P
Bath | NK 19-02 | 6462 | E, F, G, H, I, J, K, L, M, N, O, P
Bath | NK 19-02 | 6511 | A, B, C, D, E, F, G, H, I, J, K, L
Bath | NK 19-02 | 6512 | A, B, C, D, E, F, G, H

The northern edge of Statoil NA's proposed area is approximately 18 nmi from Boothbay Harbor. The longest measurement of the north/south portion is approximately 3.9 nmi in length and the longest portion of the east/west portion is approximately 5.2 nmi in length. The entire area is approximately 5,760 hectares, 14,233 acres, or 22.2 square miles. The boundary of the proposed lease area follows the points listed in the table below in clockwise order. Point numbers 1 and 9 are the same. Coordinates are provided in X, Y (eastings, northings) UTM Zone 19N, NAD 83 and geographic (longitude, latitude), NAD83.

Point No. | X (easting) | Y (northing) | Longitude | Latitude
1 | 452000 | 4821600 | −69.594183 | 43.545806
2 | 456800 | 4821600 | −69.534767 | 43.546099
3 | 456800 | 4822800 | −69.534862 | 43.556904
4 | 461600 | 4822800 | −69.475435 | 43.557167
5 | 461600 | 4816800 | −69.475011 | 43.503143
6 | 456800 | 4816800 | −69.534385 | 43.502881
7 | 456800 | 4815600 | −69.534290 | 43.492076
8 | 452000 | 4815600 | −69.593653 | 43.491783
9 | 452000 | 4821600 | −69.594183 | 43.545806

Map of the Area

A map of the area proposed by Statoil NA and the area included in this notice can be found at the following URL: http://www.boem.gov/Renewable-Energy-Program/State-Activities/Maine.aspx.

The non-confidential section of the application may be downloaded from the Web site. A large scale map of the proposed lease area showing boundaries of the area with the numbered blocks is available from BOEM at the following address: Bureau of Ocean Energy Management, Office of Renewable Energy Programs, 381 Elden Street, HM 1328, Herndon, Virginia 20170, Phone: (703) 787-1320, Fax: (703) 787-1708.

Required Indication of Interest Information

If you intend to submit an indication of competitive interest for a lease for the area identified in this notice you must provide the following:

(1) A statement that you wish to acquire a commercial wind lease for the proposed lease area (i.e., the entire area as described above). BOEM will not consider indications of interest valid if they cover less than the entire proposed lease area or describe any areas outside of the proposed lease area in this process. Any request for a commercial wind lease located outside of the proposed lease area should be submitted separately pursuant to 30 CFR 585.230;

(2) A description of your objectives and the facilities that you would use to achieve those objectives;

(3) A preliminary schedule of proposed activities, including those leading to commercial operations;

(4) Available and pertinent data and information concerning renewable energy resources and environmental conditions in the area that you wish to lease, including energy and resource data and information used to evaluate the area of interest. Where applicable, spatial information should be submitted in a format compatible with ArcGIS 9.3 in a geographic coordinate system (NAD 83);

(5) Documentation demonstrating that you are legally qualified to hold a lease as set forth in 30 CFR 585.106 and .107. Examples of the documentation appropriate for demonstrating your legal qualifications and related guidance can be found in Chapter 2 and Appendix B of the Guidelines for the Renewable Energy Framework available at: http://www.boem.gov/Renewable-Energy-Program/Regulatory-Information/Index.aspx. Legal qualification documents will be placed in an official file that may be made available for public review. If you wish that any part of your legal qualification documentation be kept confidential, clearly identify what should be kept confidential, and submit it under separate cover (see “Protection of Privileged or Confidential Information Section”, below); and

(6) Documentation demonstrating that you are technically and financially capable of constructing, operating, maintaining and decommissioning the facilities described in (2). Guidance regarding the documentation that could be used to demonstrate your technical and financial qualifications can be found at: http://www.boem.gov/Renewable-Energy-Program/Regulatory-Information/Index.aspx. If you wish that any part of your technical and financial qualification documentation be kept confidential, clearly identify what should be kept confidential, and submit it under separate cover (see “Protection of Privileged or Confidential Information Section”, below).

Your complete submission, including the items identified in (1) through (6) must be provided to BOEM in both paper and electronic formats. BOEM considers an Adobe PDF file stored on a CD to be an acceptable format for submitting an electronic copy.

It is critical that you provide a complete submission of competitive interest so that BOEM may consider your submission in a timely manner. If BOEM reviews your submission and determines that it is incomplete, BOEM will inform you of this determination in writing and describe the information that BOEM wishes you to provide in order for BOEM to deem your submission complete. You will be given 15 business days from the date of the letter to provide the information that BOEM found to be missing from your original submission. If you do not meet this deadline, or if BOEM determines your second submission is also insufficient, BOEM may deem your submission invalid. In such a case, BOEM would not consider your submission.

Requested Information From Interested or Affected Parties

BOEM is also requesting from the public and other interested or affected parties specific and detailed comments regarding the following:

(1) Geological and geophysical conditions (including bottom and shallow hazards) in the area described in this notice;

(2) Historic properties potentially affected by the construction of meteorological towers, the installation of meteorological buoys, or commercial wind development in the area identified in this notice;

(3) Multiple uses of the area described in this notice, including navigation (in particular, commercial and vessel usage, recreation, and commercial and recreational fisheries). During the public information session following the December 8, 2011, Task Force meeting, several representatives of commercial and recreational fishing interests commented on potential impacts to fishing, and BOEM invites additional comments on this important ocean use as it relates to the proposed lease area;

(4) Other relevant environmental (e.g. fishery, protected species and habitat) and socioeconomic information such as archeological resources, recreational resources, and demographics and employment.

Protection of Privileged or Confidential Information

Freedom of Information Act

BOEM will protect privileged or confidential information that you submit as required by the Freedom of Information Act (FOIA). Exemption 4 of FOIA applies to trade secrets and commercial or financial information that you submit that is privileged or confidential. If you wish to protect the confidentiality of such information, clearly mark it and request that BOEM treat it as confidential. BOEM will not disclose such information, subject to the requirements of FOIA. Please label privileged or confidential information, “Contains Confidential Information,” and consider submitting such information as a separate attachment.

However, BOEM will not treat as confidential any aggregate summaries of such information or comments not containing such information. Additionally, BOEM will not treat as confidential: (1) The legal title of the nominating entity (for example, the name of your company); or (2) the geographic location of nominated facilities. Information that is not labeled as privileged or confidential will be regarded by BOEM as suitable for public release.

Section 304 of the National Historic Preservation Act (16 U.S.C. 470w-3(a))

BOEM is required, after consultation with the Secretary, to withhold the location, character, or ownership of historic resources if it determines that disclosure may, among other things, cause a significant invasion of privacy, risk harm to the historic resources or impede the use of a traditional religious site by practitioners. Tribal entities and other interested parties should designate information that they wish to be held as confidential.

Dated: August 1, 2012.
Tommy P. Beaudreau,
Director, Bureau of Ocean Energy Management.

[FR Doc. 2012-19593 Filed 8-9-12; 8:45 am]

BILLING CODE 4310-VH-P